DEPARTMENT OF TRANSPORTATION

Federal Aviation Administration

14 CFR Part 39

[Docket No. FAA-2005-22696; Directorate Identifier 2004-SW-46-AD]

RIN 2120-AA64

Airworthiness Directives; Eurocopter France Model EC 155B and B1 Helicopters

AGENCY: Federal Aviation Administration, DOT.

ACTION: Notice of proposed rulemaking (NPRM).

SUMMARY: This document proposes adopting a new airworthiness directive (AD) for Eurocopter France (ECF) Model EC 155B and B1 helicopters. This proposal would require inspecting an electrical cable bundle for wear. If wear is present, the AD would require installing an airworthy cable bundle and modifying the routing of the electrical cable bundles. This proposal is prompted by reports of a short circuit in the wiring, which led to failure of the normal and emergency landing gear operation modes. The actions specified by this proposed AD are intended to prevent interference of the wiring with the structure resulting in an electrical short circuit, failure of the landing gear to extend, and an emergency landing.

DATES: Comments must be received on or before December 16, 2005.

ADDRESSES: Use one of the following addresses to submit comments on this proposed AD:

• DOT Docket Web Site: Go to http://dms.dot.gov and follow the instructions for sending your comments electronically;

• Government-Wide Rulemaking Web Site: Go to http://www.regulations.gov and follow the instructions for sending your comments electronically;

• Mail: Docket Management Facility; U.S. Department of Transportation, 400 Seventh Street, SW., Nassif Building, Room PL-401, Washington, DC 20590;

• Fax: 202-493-2251; or

• Hand Delivery: Room PL-401 on the plaza level of the Nassif Building, 400 Seventh Street, SW., Washington, DC, between 9 a.m. and 5 p.m., Monday through Friday, except Federal holidays.

You may get the service information identified in this proposed AD from American Eurocopter Corporation, 2701 Forum Drive, Grand Prairie, Texas 75053-4005, telephone (972) 641-3460, fax (972) 641-3527.

You may examine the comments to this proposed AD in the AD docket on the Internet at http://dms.dot.gov.

FOR FURTHER INFORMATION CONTACT: Jorge Castillo, Aviation Safety Engineer, FAA, Rotorcraft Directorate, Regulations and Policy Group, Fort Worth, Texas 76193-0111, telephone (817) 222-5127, fax (817) 222-5961.

SUPPLEMENTARY INFORMATION:

Comments Invited

We invite you to submit any written data, views, or arguments regarding this proposed AD. Send your comments to the address listed under the caption ADDRESSES. Include the docket number “FAA-2005-22696, Directorate Identifier 2004-SW-46-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed rulemaking. Using the search function of our docket Web site, you can find and read the comments to any of our dockets, including the name of the individual who sent or signed the comment. You may review the DOT's complete Privacy Act Statement in the Federal Register published on April 11, 2000 (65 FR 19477-78), or you may visit http://dms.dot.gov.

Examining the Docket

You may examine the docket that contains the proposed AD, any comments, and other information in person at the Docket Management System (DMS) Docket Office between 9 a.m. and 5 p.m., Monday through Friday, except Federal holidays. The Docket Office (telephone 1-800-647-5227) is located at the plaza level of the Department of Transportation NASSIF Building in Room PL-401 at 400 Seventh Street, SW., Washington, DC. Comments will be available in the AD docket shortly after the DMS receives them.

Discussion

The Direction Generale de l'Aviation Civile (DGAC), the airworthiness authority for France, notified the FAA that an unsafe condition may exist on ECF Model EC 155 helicopters. The DGAC advises of the occurrence of a short circuit that occurred in the wiring of panel 12 Alpha making the landing gear inoperative.

ECF has issued Alert Service Bulletin No. 24A011 (ASB), dated March 11, 2004, and subsequently revised on May 14, 2004, which specifies checking the condition of the wiring and modifying its routing to preclude the risk of interference and associated damage. The May 14, 2004, revision to the ASB also specifies prevention of any interference of the wiring with the head of the vent line attaching clamp by replacing wiring kit 365A0739C28.71 with wiring kit 365A0739C28.72. The DGAC classified these ASBs as mandatory and issued AD No. F-2004-057 R1, dated July 21, 2004, to ensure the continued airworthiness of these helicopters in France.

These helicopter models are manufactured in France and are type certificated for operation in the United States under the provisions of 14 CFR 21.29 and the applicable bilateral agreement. Pursuant to the applicable bilateral agreement, the DGAC has kept us informed of the situation described above. We have examined the findings of the DGAC, reviewed all available information, and determined that AD action is necessary for products of this type design that are certificated for operation in the United States.

This previously described unsafe condition is likely to exist or develop on other helicopters of the same type designs registered in the United States. Therefore, the proposed AD would require the following:

• Within 50 hours time-in-service (TIS), inspect the wiring of panel 12 Alpha electrical (wiring) cable bundle for wear. If wear is present, replace the worn cable bundle with an airworthy cable bundle.

• Modify the routing of the electrical wiring (MOD 0739C28) and replace spreaders and spacers.

The actions would be required to be accomplished in accordance with specified portions of the ASB described previously.

We estimate that this proposed AD would affect 7 helicopters of U.S. registry and would take about 16 work hours to inspect and modify the wiring per helicopter at an average labor rate of $65 per work hour. Required parts and material would cost about $240. Based on these figures, we estimate the total cost impact of the proposed AD on U.S. operators to be $8,960, assuming that all of the helicopters will be modified.

Regulatory Findings

We have determined that this proposed AD would not have federalism implications under Executive Order 13132. Additionally, this proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a draft economic evaluation of the estimated costs to comply with this proposed AD. See the DMS to examine the draft economic evaluation.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

Eurocopter France: Docket No. FAA-2005-22696; Directorate Identifier 2004-SW-46-AD.

Applicability: Model EC 155B and B1 helicopters, certificated in any category.

Compliance: Required as indicated, unless accomplished previously.

To prevent interference of the wiring with the structure resulting in an electrical short circuit, failure of the landing gear to extend, and an emergency landing, accomplish the following:

(a) Within 50 hours time-in-service (TIS),

(1) Inspect the wiring of panel 12 Alpha (wiring) electrical cable bundle for wear. If wear is present, replace the worn cable bundle with an airworthy cable bundle by following the Accomplishment Instructions, paragraphs 2.A.1, 2.B.1, and 2.B.2 of Eurocopter Alert Service Bulletin EC155, Revision 1, dated May 14, 2004 (ASB).

Note 1: Aircraft Maintenance Manual (AMM): Tasks 24.00.00.911 and 32-30-00-721 and Standard Practices Manual (MTC) Work Cards 20.02.01.415, 20.06.01.310, 20.06.01.406, and 20.02.06.409 pertain to the subject of this AD.

(2) Modify the routing of the electrical wiring (MOD 0739C28) and replace spreaders and spacers by following the Accomplishment Instructions, paragraph 2.B.3. through 2.B.9. of the ASB.

(b) To request a different method of compliance or a different compliance time for this AD, follow the procedures in 14 CFR 39.19. Contact the Safety Management Group, FAA, for information about previously approved alternative methods of compliance.

(c) Special flight permits will not be issued.

Note 2: The subject of this AD is addressed in Direction Generale de l'Aviation Civile (France) AD F-2004-057 R1, dated July 21, 2004.

Issued in Fort Worth, Texas, on October 7, 2005.
David A. Downey,
Manager, Rotorcraft Directorate, Aircraft Certification Service.

[FR Doc. 05-20679 Filed 10-14-05; 8:45 am]

BILLING CODE 4910-13-P